ENVIRONMENTAL PROTECTION AGENCY

40 CFR Part 503

[FRL -6546-3]

RIN 2040-AC25

Standards for the Use or Disposal of Sewage Sludge; Reopening of Comment Period

AGENCY: Environmental Protection Agency (EPA).

ACTION: Proposed rule; Reopening of Comment Period.

SUMMARY: The Environmental Protection Agency (EPA) is today announcing a reopening of the public comment period to March 23, 2000 for its Proposed Rule on Standards for the Use or Disposal of Sewage Sludge which was published in the Federal Register on December 23, 1999 at (64 FR 72045).

DATES: The comment period is reopened until March 23, 2000.

ADDRESSES: Written comments and enclosures should be mailed or hand-delivered to: Part 503 Sewage Sludge Use or Disposal Rule; Docket Number W-99-18, Comment Clerk, Water Docket MC-4101, Environmental Protection Agency, Room 57 East Tower Basement, 401 M Street, SW, Washington, DC 20460. Comments may also be submitted electronically to OW-Docket@epamail.epa.gov. For additional information see Additional Docket Information in the SUPPLEMENTARY INFORMATION section of this Federal Register.

FOR FURTHER INFORMATION CONTACT: Arleen Plunkett, U.S. Environmental Protection Agency, Office of Water, Health and Ecological Criteria Division (4304), 401 M Street, SW., Washington, DC 20460. (202) 260-3418.

SUPPLEMENTARY INFORMATION:

Additional Docket Information

The record for this rulemaking has been established under docket number W-99-18 and includes supporting documentation as well as the printed paper versions of electronic materials. When submitting written comments to the Water Docket, (see ADDRESSES section above) please reference docket number W-99-18 and submit an original and three copies of your comments and enclosures (including references). For an acknowledgment that we have received your information, please include a self-addressed, stamped envelope. EPA will not accept facsimiles (faxes). Comments may also be submitted electronically to: OW-Docket@epamail.epa.gov. Electronic comments must be submitted as an ASCII, WP5.1, WP6.1 or WP8 file avoiding the use of special characters and form of encryption. Electronic comments must be identified by docket number W-99-18. Comments and data will also be accepted on discs in WP5.1, WP6.1, WP8, or ASCII file format. To ensure that EPA can read, understand, and, therefore, properly respond to comments, the Agency would prefer that commenters cite, where possible, the paragraph(s) or sections in the notice or supporting documents to which each comment refers. Commentors should use a separate paragraph for each issue.

The record is available for inspection from 9:00am to 4:00pm Eastern Standard or Daylight time, Monday through Friday, excluding legal holidays at the Water Docket, EB 57, USEPA Headquarters, 401 M Street, SW, Washington, D.C. 20460. For access to the docket materials, please call 202-260-3027 to schedule an appointment.

For information on the existing rule in 40 CFR Part 503, you may obtain a copy of A Plain English Guide to the EPA Part 503 Biosolids Rule on the Internet at http://www.epa.gov/owm/bio.htm or request the document (EPA publication number EPA/832/R-93/003) from: Municipal Technology Branch, Office of Wastewater Management (4204), Office of Water, U.S. Environmental Protection Agency, 401 M Street, SW., Washington, D.C. 20460.

Background

On December 23, 1999, EPA (64 FR 72045) proposed to amend management standards for sewage sludge by adding a numeric concentration limit for dioxin and dioxin-like compounds (“dioxins”) in sewage sludge that is applied to the land, and monitoring, record keeping and reporting requirements for dioxins in sewage sludge that is land applied. EPA did not propose additional numeric standards or management practice requirements for dioxins in sewage sludge that is placed in surface disposal units or incinerated in sewage sludge incinerators. The proposal was based on the results of risk assessments for dioxins in sewage sludge that is applied to the land, placed in surface disposal units, or incinerated.

EPA established a 60-day public comment period which is scheduled to close on February 22, 2000. Subsequently, we received requests to extend the public comment period. The requests were based on the time that it would take to review the technical support documents of the proposed rule. We agree that a reopening is warranted to allow adequate time for the review of the technical support documents for this proposal. Therefore, the public comment period will now close on March 23, 2000.

Dated: February 24, 2000.
J. Charles Fox,
Assistant Administrator for Water.

[FR Doc. 00-5044 Filed 3-1-00; 8:45 am]

BILLING CODE 6560-50-P